DEPARTMENT OF COMMERCE

International Trade Administration

[A-485-803]

Notice of Final Results of Antidumping Duty Administrative Review and Final Partial Rescission: Certain Cut-to-Length Carbon Steel Plate from Romania

AGENCY: Import Administration, International Trade Administration, Department of Commerce.

SUMMARY: On July 5, 2007, the Department of Commerce (“the Department”) published the preliminary results of the administrative review of the antidumping duty order on certain cut-to-length carbon steel plate (“cut-to-length plate”) from Romania. The review covers Mittal Steel Galati, S.A. (“MS Galati”) a Romanian producer/exporter of the subject merchandise. This administrative review also covers Metalexportimport SA (“MEI”), an unaffiliated exporter that was not involved with any of the U.S. sales during the period of review and for which the Department is rescinding this review. The period of review is August 1, 2005, through December 14, 2005.¹

¹ Since the effective date of revocation is December 15, 2005, the POR is August 1, 2005, through December 14, 2005.

DATES: Effective Dates: November 9, 2007.

FOR FURTHER INFORMATION CONTACT: Dena Crossland or John Drury, AD/CVD Operations, Office 7, Import Administration, International Trade Administration, U.S. Department of Commerce, 14th Street & Constitution Avenue, NW., Washington, DC 20230; telephone: (202) 482-3362 or (202) 482-0195, respectively.

SUPPLEMENTARY INFORMATION:

Background

On December 14, 2006, the International Trade Commission determined that revocation of the antidumping duty orders on cut-to-length plate from certain countries, including Romania, would not likely lead to continuation or recurrence of material injury to an industry in the United States. See Certain Carbon Steel Products From Australia, Belgium, Brazil, Canada, Finland, France, Germany, Japan, Korea, Mexico, Poland, Romania, Spain, Sweden, Taiwan, and the United Kingdom, 72 FR 4529 (January 31, 2007) and USITC Publication 3899 entitled Certain Carbon Steel Products from Australia, Belgium, Brazil, Canada, Finland, France, Germany, Japan, Korea, Mexico, Poland, Romania, Spain, Sweden, Taiwan, and the United Kingdom: Investigation Nos. AA1921-197 (Second Review); 701-TA-319, 320, 325-327, 348, and 350 (Second Review); and 731-TA-573, 574, 576, 578, 582-587, 612, and 614-618 (Second Review) (January 2007). Pursuant to sections 751(c) and 751(d) of the Tariff Act of 1930, as amended (“the Act”), the Department revoked the antidumping duty order on cut-to-length plate from Romania. See Revocation Pursuant to Second Five-Year (Sunset) Reviews: Countervailing Duty Orders on Certain Steel Products from Belgium, Brazil, Mexico, Spain and Sweden; Antidumping Duty Orders on Certain Cut-to-Length Carbon Steel Plate from Belgium, Brazil, Finland, Germany, Mexico, Poland, Romania, Spain, Sweden, and the United Kingdom; Antidumping Finding on Carbon Steel Plate from Taiwan, 72 FR 6519 (February 12, 2007) (“Revocation of Plate from Romania”). The Department stated in the Revocation of Plate from Romania that it will complete any pending administrative reviews of these orders and will conduct administrative reviews of subject merchandise entered prior to the effective date of revocation in response to appropriately filed requests for review. Pursuant to section 751(d)(2) of the Act and 19 CFR 351.222(i)(2)(i), the effective date of revocation is December 15, 2005. As a result, the Department is completing the instant review of cut-to-length plate from Romania.

On July 5, 2007, the Department published the preliminary results of the administrative review of the antidumping duty order on cut-to-length plate from Romania. See Certain Cut-to-Length Carbon Steel Plate from Romania: Preliminary Results of the Antidumping Duty Administrative Review and Intent to Rescind in Part, 72 FR 36658 (July 5, 2007) (“Preliminary Results”). We invited interested parties to comment on the Preliminary Results.

On August 7, 2007, we received a case brief from MS Galati. We did not receive any case or rebuttal briefs from the domestic interested party IPSCO Steel Inc. (“IPSCO”) or petitioner Nucor Corporation (“Nucor”). No interested parties requested a public hearing in this review.

Final Partial Rescission

We preliminarily determined to rescind the review with respect to MEI, MS Galati's unaffiliated exporter, because MS Galati stated on the record that MEI did not serve as an exporter for any of MS Galati's U.S. sales during the POR, and there were no identifiable entries of cut-to-length plate during the POR manufactured or exported by MEI, according to the Department's U.S. Customs and Border Protection (“CBP”) data inquiry. See Preliminary Results. Additionally, in the previous antidumping duty administrative review of cut-to-length plate from Romania, covering the period August 1, 2004, through July 31, 2005, the Department found that (a) MEI is not a producer of subject merchandise, (b) MEI does not take title to the merchandise which MS Galati exports through MEI, and (c) MS Galati has knowledge of the destination of its subject merchandise exports. See Notice of Final Results of Antidumping Duty Administrative Review and Final Partial Rescission: Certain Cut-to-Length Carbon Steel Plate from Romania. 72 FR 6522 (February 12, 2007). No parties commented on this issue. Therefore, we have received no new information or evidence of changed circumstances that would cause the Department to reconsider that determination. Thus, we are finally rescinding the administrative review with respect to MEI.

Scope of the Order

The products covered by this order include hot-rolled carbon steel universal mill plates (i.e., flat-rolled products rolled on four faces or in a closed box pass, of a width exceeding 150 millimeters but not exceeding 1,250 millimeters and of a thickness of not less than 4 millimeters, not in coil and without patterns in relief), of rectangular shape, neither clad, plated, nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedule of the United States (“HTSUS”) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included under this review are flat-rolled products of nonrectangular cross-section where such cross-section is achieved subsequent to the rolling process (i.e., products which have been “worked after rolling”)—for example, products which have been bevelled or rounded at the edges. Excluded from this review is grade X-70 plate. These HTSUS item numbers are provided for convenience and customs purposes. The written description remains dispositive.

Analysis of Comments Received

The issues raised in the case brief by the respondent to this administrative review are addressed in the Issues and Decision Memorandum to David M. Spooner, Assistant Secretary for Import Administration, from Stephen Claeys, Deputy Assistant Secretary (“Decision Memorandum”), which is hereby adopted by this notice. A list of the issues addressed in the Decision Memorandum is appended to this notice. The Decision Memorandum is on file in the Central Records Unit in Room B-099 of the main Commerce building, and can also be accessed directly on the Web at http://ia.ita.doc.gov/frn. The paper copy and electronic version of the Decision Memorandum are identical in content.

Final Results of Review:

As a result of our review, we determine that the following margin exists for the period of August 1, 2005, through December 14, 2005:

ProducerMargin
| Percent
Mittal Steel Galati S.A. | 0.61

Assessment

The Department will determine, and CBP shall assess, antidumping duties on all appropriate entries, pursuant to section 751(a)(1)(B) of the Act and 19 CFR 351.212(b). The Department will direct CPB to liquidate any entries manufactured by MS Galati, and entered or withdrawn from warehouse for consumption during the POR, at the rate above. We intend to issue assessment instructions to CBP 15 days after the date of publication of these final results of review.

The Department clarified its “automatic assessment” regulation on May 6, 2003. See Antidumping and Countervailing Duty Proceedings: Assessment of Antidumping Duties, 68 FR 23954 (May 6, 2003) (“Assessment Policy Notice”). This clarification will apply to entries of subject merchandise during the POR produced by companies included in these final results of review for which the reviewed companies did not know that the merchandise they sold to the intermediary (e.g., a reseller, trading company, or exporter) was destined for the United States. In such instances, we will instruct CBP to liquidate unreviewed entries at the “All Others” rate if there is no rate for the intermediary involved in the transaction. See Assessment Policy Notice for a full discussion of this clarification.

Cash Deposit Requirements

The Department notified CBP to discontinue suspension of liquidation and collection of cash deposits on entries of the subject merchandise entered or withdrawn from warehouse on or after December 15, 2005, the effective date of revocation of the antidumping duty order.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305. Timely written notification of the return/destruction of APO materials or conversion to judicial protective order is hereby requested. Failure to comply with the regulations and terms of an APO is a violation that is subject to sanction.

This administrative review and notice are issued and published in accordance with sections 751(a)(1) and 777(i)(1) of the Act.

Dated: November 2, 2007.
David M. Spooner,
Assistant Secretary for Import Administration.

Appendix I—List of Issues in the Decision Memorandum

Issue I. Constructed Export Price Profit Calculation.

Issue II. Freight Revenue and Inland Freight Expenses.

[FR Doc. E7-22048 Filed 11-8-07; 8:45 am]

BILLING CODE 3510-DS-P